INTERNATIONAL TRADE COMMISSION

[Inv. No. 337-TA-511]

In the Matter of Certain Pet Food Treats; Notice of Decision Not To Review an Initial Determination Terminating the Investigation as to Respondent TsingTao U.S.

AGENCY: U.S. International Trade Commission.

ACTION: Notice.

SUMMARY: Notice is hereby given that the U.S. International Trade Commission has determined not to review an initial determination (ID) issued by the presiding administrative law judge (ALJ) in the above-captioned investigation terminating the investigation as to respondent TsingTao ShengRong Seafood, Inc. of Columbus, Ohio (“TsingTao U.S.”).

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 8, 2004, based on a complaint filed by Thomas J. Baumgartner and Hillbilly Smokehouse, Inc., both of Rogers, Arkansas. 69 FR 32044. The complaint alleges violations of section 337 in the importation into the United States, sale for importation, or sale within the United States after importation of certain pet food treats that infringe U.S. Design Patent No. 383,886. The notice of investigation lists six companies as respondents, including TsingTao U.S.

On August 18, 2004, complainants moved for issuance of an order directing several respondents, including TsingTao U.S., to show cause why they should not be found in default. On August 30, 2004, the Commission investigative attorney filed a response, noting, inter alia, that the complaint and notice of investigation sent to TsingTao U.S. were returned as undeliverable, and that it therefore appeared that TsingTao U.S. had not been served with those documents as required by section 337(g)(1)(B), 19 U.S.C. 1337(g)(1)(B).

On October 5, 2004, the ALJ issued Order No. 6, in which find that service had not been effectuated on Tsing Tao U.S. For this reason, he found that a show cause order against TsingTao U.S. would be inappropriate at that time. He granted leave to complainants to attempt personal service on TsingTao U.S., pursuant to Commission rule 210.11(b).

Because complainants did not thereafter establish successful service or show any attempts to personally serve TsingTao U.S., the ALJ, on November 17, 2004, issued an order (Order No. 9), requiring complainants to show cause why the investigation should not be terminated as to TsingTao U.S. due to a failure to prosecute. On November 19, 2004, complainants responded to Order No. 9, stating that their efforts to locate TsingTao U.S. have proven unsuccessful, and that they therefore do not oppose termination of the investigation as to that respondent. On December 2, 2004, the ALJ issued an ID (Order No. 11), terminating the investigation as to TsingTao U.S. No petitions for review of the ID were filed.

The authority for the Commission's determination is contained in section 337 of the Tariff Act of 1930, as amended (19 U.S.C. 1337), and in § 210.42 of the Commission's Rules of Practice and Procedure (19 CFR 210.42).

By order of the Commission.
Issued: December 27, 2004.
Marilyn R. Abbott,
Secretary to the Commission.

[FR Doc. 04-28634 Filed 12-29-04; 8:45 am]

BILLING CODE 7020-02-P